DEPARTMENT OF ENERGY

Federal Energy Regulatory Commission

Combined Notice of Filings #1

Take notice that the Commission received the following electric corporate filings:

Docket Numbers: EC20-74-000.

Applicants: FPL Energy Oliver Wind I, LLC, Oliver Wind I, LLC, Hawkeye Power Partners, LLC, Cerro Gordo Wind, LLC.

Description: Application for Authorization Under Section 203 of the Federal Power Act, et al. of FPL Energy Oliver Wind I, LLC, et al.

Filed Date: 6/16/20.

Accession Number: 20200616-5190.

Comments Due: 5 p.m. ET 7/7/20.

Take notice that the Commission received the following electric rate filings:

Docket Numbers: ER20-2000-000.

Applicants: Clyde Onsite Generation, LLC.

Description: Supplement to June 5, 2020 Clyde Onsite Generation, LLC tariff filing (Clarification).

Filed Date: 6/16/20.

Accession Number: 20200616-5183.

Comments Due: 5 p.m. ET 7/7/20.

Docket Numbers: ER20-2071-000.

Applicants: Consolidated Edison Company of New York, Inc.

Description: Section 205(d) Rate Filing: Emergency Colling Surcharge 6-16-2020 to be effective 6/16/2020.

Filed Date: 6/16/20.

Accession Number: 20200616-5166.

Comments Due: 5 p.m. ET 7/7/20.

Docket Numbers: ER20-2072-000.

Applicants: Southwest Power Pool, Inc.

Description: Section 205(d) Rate Filing: 3671 City of Independence, MO/Evergy Missouri West Int Agr to be effective 8/16/2020.

Filed Date: 6/17/20.

Accession Number: 20200617-5043.

Comments Due: 5 p.m. ET 7/8/20.

Docket Numbers: ER20-2073-000.

Applicants: Midcontinent Independent System Operator, Inc.

Description: Section 205(d) Rate Filing: 2020-06-17_SA 3276 OTP—MDU 1st Rev GIA (G359R) to be effective 6/3/2020.

Filed Date: 6/17/20.

Accession Number: 20200617-5044.

Comments Due: 5 p.m. ET 7/8/20.

Docket Numbers: ER20-2074-000.

Applicants: Southwest Power Pool, Inc.

Description: Section 205(d) Rate Filing: 3674 Empire and Evergy Missouri West Interconnection Agr to be effective 8/16/2020.

Filed Date: 6/17/20.

Accession Number: 20200617-5046.

Comments Due: 5 p.m. ET 7/8/20.

Docket Numbers: ER20-2075-000.

Applicants: Midcontinent Independent System Operator, Inc.

Description: Section 205(d) Rate Filing: 2020-06-17_SA3503_ITC-Orion Renewable Resources GIA (J833) to be effective 6/3/2020.

Filed Date: 6/17/20.

Accession Number: 20200617-5047.

Comments Due: 5 p.m. ET 7/8/20.

Docket Numbers: ER20-2076-000.

Applicants: Southwest Power Pool, Inc.

Description: Section 205(d) Rate Filing: 2424R2 OG&E and Evergy KS Central Interconnection Agreement to be effective 8/16/2020.

Filed Date: 6/17/20.

Accession Number: 20200617-5053.

Comments Due: 5 p.m. ET 7/8/20.

Docket Numbers: ER20-2077-000.

Applicants: Duke Energy Carolinas, LLC.

Description: Section 205(d) Rate Filing: Revisions to Rate Schedule Nos. 329, 332, and 336 to be effective 6/1/2020.

Filed Date: 6/17/20.

Accession Number: 20200617-5133.

Comments Due: 5 p.m. ET 7/8/20.

Docket Numbers: ER20-2078-000.

Applicants: Southwest Power Pool, Inc.

Description: Section 205(d) Rate Filing: 2482R2 Evergy Metro & Evergy KS Central Interconnection Agr to be effective 8/16/2020.

Filed Date: 6/17/20.

Accession Number: 20200617-5066.

Comments Due: 5 p.m. ET 7/8/20.

Docket Numbers: ER20-2079-000.

Applicants: Midcontinent Independent System Operator, Inc.

Description: Section 205(d) Rate Filing: 2020-06-17_SA 3506_ITC-Hawkeye Power Partners GIA (Cerro Gordo) to be effective 6/3/2020.

Filed Date: 6/17/20.

Accession Number: 20200617-5069.

Comments Due: 5 p.m. ET 7/8/20.

Docket Numbers: ER20-2080-000.

Applicants: Southwest Power Pool, Inc.

Description: Section 205(d) Rate Filing: 2797R1 Prairie Wind Transmission/Evergy Kansas Central IntAg to be effective 8/16/2020.

Filed Date: 6/17/20.

Accession Number: 20200617-5075.

Comments Due: 5 p.m. ET 7/8/20.

Docket Numbers: ER20-2081-000.

Applicants: AEP Texas Inc.

Description: Section 205(d) Rate Filing: AEPTX-Shakes Solar 4th Amend & Restated Interconnection Agreement to be effective 6/11/2020.

Filed Date: 6/17/20.

Accession Number: 20200617-5092.

Comments Due: 5 p.m. ET 7/8/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 17, 2020.
Nathaniel J. Davis, Sr.,
Deputy Secretary.

[FR Doc. 2020-13475 Filed 6-22-20; 8:45 am]

BILLING CODE 6717-01-P